DEPARTMENT OF JUSTICE

[AAG/A Order No. 011-2007]

Justice Management Division; Privacy Act of 1974; System of Records

AGENCY: Office of Attorney Recruitment and Management, Justice Management Division, Department of Justice.

ACTION: Modification to a system of records.

SUMMARY: The Department of Justice (DOJ) proposes to modify the Privacy Act notice on “Federal Bureau of Investigation Whistleblower Case Files, JMD-023,” last published on September 7, 2005, at 70 FR 53253. The modifications are made in the “Categories of Records in the System” and in the “Retention and Disposal” sections of the notice.

DATES: In accordance with the requirements of 5 U.S.C. 552a(e)(4) and (11), the public is given a 30-day period in which to comment. The Office of Management and Budget (OMB), which has oversight responsibility under the Act, has 40 days in which to conclude its review of the modifications to the system notice. Therefore, please submit any comments by May 14, 2007.

ADDRESSES: The public, OMB, and the Congress are invited to submit any comments to Mary E. Cahill, Management and Planning Staff, Justice Management Division, Department of Justice, Washington, DC 20530 (Room 1400, National Place Building), Facsimile number (202) 307-1853.

FOR FURTHER INFORMATION CONTACT: Louis DeFalaise, Director, Office of Attorney Recruitment and Management, Justice Management Division, Department of Justice, Washington, DC 20530 (Suite 5100, 20 Massachusetts Ave., NW.) on (202) 514-8900.

SUPPLEMENTARY INFORMATION: The official version of this document is the document published in the Federal Register. Free Internet access to the official edition of the Federal Register and the Code of Federal Regulations is available on GPO Access at: http://www.access.gpo.gov/nara/index.html.

In accordance with 5 U.S.C. 552a(r), the Department has provided a report to OMB and the Congress.

Dated: March 22, 2007.
Lee J. Lofthus,
Assistant Attorney General for Administration.

Justice/JMD-023

System Name:

Federal Bureau of Investigation Whistleblower Case Files.

* * * * *

Categories of Records in the System:

The records in the system relate to OARM's adjudication of FBI whistleblower cases, and customarily include: requests or recommendations for corrective action brought pursuant to 28 CFR Part 27; the parties' written comments, pleadings, and/or motions, correspondence between OARM and the parties and OARM and the Conducting Offices; lists of witnesses, evidence and exhibits (to include written documentation, audiotapes, and/or videotapes); deposition and hearing transcripts; OARM's Opinions and Orders; and any directive and/or decision by the Deputy Attorney General.

* * * * *

Retention and Disposal:

Temporary. Transfer to the Washington National Records Center two years after closing. Destroy six years after closing.

* * * * *

[FR Doc. E7-6108 Filed 4-2-07; 8:45 am]

BILLING CODE 4410-PB-P